DEPARTMENT OF COMMERCE

National Oceanic and Atmospheric Administration

Science Advisory Board (SAB); Meetings

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Tuesday November 3, 2009, from 10:15 a.m. to 4:45 p.m. and Wednesday, November 4, 2009, from 9 a.m. to 3 p.m. These times and the agenda topics described below are subject to change. Please refer to the Web page http://www.sab.noaa.gov/Meetings/meetings.html for the most up-to-date meeting agenda.

Place: The meeting will be held both days at the Hilton Washington DC/Silver Spring, 8727 Colesville Road, Silver Spring, MD 20910. Please check the SAB Web site http://www.sab.noaa.gov for confirmation of the venue and for directions.

Status: The meeting will be open to public participation with a 30-minute public comment period on November 3 at 4:15 p.m. (check Web site to confirm time). The SAB expects that public statements presented at its meetings will not be repetitive of previously submitted verbal or written statements. In general, each individual or group making a verbal presentation will be limited to a total time of five (5) minutes. Written comments should be received in the SAB Executive Director's Office by October 29, 2009 to provide sufficient time for SAB review. Written comments received by the SAB Executive Director after October 29, 2009, will be distributed to the SAB, but may not be reviewed prior to the meeting date. Seats will be available on a first-come, first-served basis.

Matters To Be Considered: The meeting will include the following topics: (1) Report from the Climate Working Group Review of NOAA Climate Information Products and Applications (2) Preliminary Draft Report from the Oceans and Health Working Group; (3) Final Report from the SAB Census of Marine Life Subcommittee; (4) NOAA Response to the SAB Report “Fire Weather Research in NOAA: A Burning Agenda for NOAA”; (5) Overview of the Report from the President's Ocean Policy Task Force; (6) NOAA Strategy in the Arctic and (7) An Overview of Marine Spatial Planning and related technology issues.

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov; or visit the NOAA SAB Web site at http://www.sab.noaa.gov.

Dated: October 7, 2009.
Mark E. Brown,
Chief Financial Officer, Office of Oceanic and Atmospheric Research, National Oceanic and Atmospheric Administration.

[FR Doc. E9-24669 Filed 10-13-09; 8:45 am]

BILLING CODE 3510-KD-P